DEPARTMENT OF COMMERCE

Foreign-Trade Zones Board

[Order No. 1696]

Reorganization/Expansion of Foreign-Trade Zone 17 under Alternative Site Framework, Kansas City, KS

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the Greater Kansas City Foreign-Trade Zone, Inc., grantee of Foreign-Trade Zone 17, submitted an application to the Board (FTZ Docket 45-2009, filed 10/22/2009) for authority to reorganize under the ASF with a service area of Wyandotte, Johnson, Douglas, Shawnee, Leavenworth and Miami Counties, Kansas, within and adjacent to the Kansas City Customs and Border Protection port of entry, and FTZ 17's existing Sites 2, 3, 5, 6, 7 and 8 would be categorized as magnet sites, existing Site 4 would be categorized as a usage-driven site, existing Site 1 would be deleted, and the grantee proposes two initial usage-driven sites (Sites 9 and 10);

Whereas, notice inviting public comment was given in the Federal Register (74 FR 55813, 10/29/2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 17 under the alternative site framework is approved, subject to the FTZ Act and the Board's regulations, including Section 400.28, to the Board's standard 2,000-acre activation limit for the overall general-purpose zone project, to a five-year ASF sunset provision for magnet sites that would terminate authority for Sites 2, 3, 5, 6, 7 and 8 if not activated by July 31, 2015, and to a three-year ASF sunset provision for usage-driven sites that would terminate authority for Sites 4, 9 and 10 if no foreign-status merchandise is admitted for a bona fide customs purpose by July 31, 2013.

Signed at Washington, DC, this 8th day of July 2010.
Ronald K. Lorentzen,
Deputy Assistant Secretary for Import Administration, Alternate Chairman, Foreign-Trade Zones Board.
Attest:
Andrew McGilvray,
Executive Secretary.

[FR Doc. 2010-17539 Filed 7-16-10; 8:45 am]

BILLING CODE 3510-DS-P